DEPARTMENT OF TRANSPORTATION

Federal Highway Administration

Notice of Final Federal Agency Actions on Proposed Highway in Utah

AGENCY: Federal Highway Administration (FHWA), USDOT.

ACTION: Notice of Limitation on Claims for Judicial Review of Actions by FHWA.

SUMMARY: This notice announces actions taken by the FHWA that are final within the meaning of 23 U.S.C. 39(l)(1). The actions relate to a proposed highway project, Tooele Midvalley Highway, from I-80 to State Route 36 Tooele County, State of Utah. Those actions grant licenses, permits, and approvals for the project.

DATES: By this notice, the FHWA is advising the public of final agency actions subject to 23 U.S.C. 139(l)(1). A claim seeking judicial review of the Federal agency actions that are covered by this notice will be barred unless the claim is filed on or before February 14, 2012. If the Federal law that authorizes judicial review of a claim provides a time period of less than 180 days for filing such claim, then that shorter time period still applies.

FOR FURTHER INFORMATION CONTACT: For FHWA: Mr. Edward Woolford, Environmental Manager, Federal Highway Administration, 2520 West 4700 South, Suite 9A, Salt Lake City, Utah 84118-1880; Telephone: (801) 955-3524; e-mail: Edward.Woolford@dot.gov. The FHWA Utah Division Office's normal business hours are 7:30 a.m. to 4:30 p.m. (Mountain Time). For the Utah Department of Transportation (UDOT): Mr. Matt Zundel, 2010 South 2760 West, Salt Lake City, UT 84104; Telephone: (801) 887-3421; e-mail: mzundel@utah.gov. The UDOT's normal business hours are Monday through Thursday, 7:30 a.m. to 5:30 p.m. (M. Time).

SUPPLEMENTARY INFORMATION: On Friday, January 14, 2011, the FHWA published the Notice of Availability in the Federal Register in Volume 76, No. 10, page 2680, for the following highway project in the State of Utah: Tooele County Midvalley Highway Project, To Address Traffic Congestion on UT-36 and at the I-80 Lake Point interchange through the Year 2030. The proposed action includes capacity improvements to the north-south transportation system in the Tooele Valley that provide additional north-south transportation capacity, reduce anticipated congestion on SR-36, and reduce anticipated congestion at the Lake Point interchange with I-80. The actions by the Federal agencies, and the laws under which such actions were taken, are described in the Final Environmental Impact Statement (FEIS) for the project, approved on January 3, 2011, and in the FHWA Record of Decision (ROD) issued on July 27, 2011, and in other documents in the FHWA project files. The FEIS, ROD, and other project records are available by contacting the FHWA or the UDOT at the addresses provided above. The FHWA FEIS and ROD can be viewed and downloaded from the project Web site at http://www.midvalleyhighway.com or viewed at public libraries in the project area. This notice applies to all Federal agencies' final actions taken after the issuance date of the FHWA Federal Register notice described above. The laws under which actions were taken include, but are not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303].

4. Wildlife: Endangered Species Act [16 U.S.C. 1531-1544 and Section 1536]; Migratory Bird Treaty Act [16 U.S.C. 703-712].

5. Historic and Cultural Resources: Section 106 of the National Historic Preservation Act of 1966, as amended [16 U.S.C. 470(f) et seq.].

6. Social and Economic: Civil Rights Act of 1964 [42 U.S.C. 2000(d)-2000(d)(1)]; Farmland Protection Policy Act (FPPA) [7 U.S.C. 4201-4209].

7. Executive Orders: E.O. 11990, Protection of Wetlands; E.O. 11988, Floodplain Management; E.O. 12898, Federal Actions to Address Environmental Justice in Minority Populations and Low Income Populations; E.O. 13175, Consultation and Coordination With Indian Tribal Governments; E.O. 13112, Invasive Species.

(Catalog of Federal Domestic Assistance Program Number 20.205, Highway Planning and Construction. The regulations implementing Executive Order 12372 regarding intergovernmental consultation on Federal programs and activities apply to this program.)

Authority: 23 U.S.C. 139(l)(1).

Issued on: August 10, 2011.
James Christian,
Division Administrator, Salt Lake City.

[FR Doc. 2011-21018 Filed 8-17-11; 8:45 am]

BILLING CODE 4910-RY-P